SECURITIES AND EXCHANGE COMMISSION

Sunshine Act Meeting

Notice is hereby given, pursuant to the provisions of the Government in the Sunshine Act, Public Law 94-409, that the Joint CFTC-SEC Advisory Committee on Emerging Regulatory Issues (see also Pub. L. 111-117, Section 621) will hold an Open Meeting on Wednesday, August 11, 2010, in the first floor hearing room of the CFTC's Washington, DC headquarters, which is located at Three Lafayette Centre, 1155 21st St., NW.

The meeting will begin at 9 a.m. and will be open to the public, with seating on a first-come, first-served basis. Doors will be open at 8 a.m. Visitors will be subject to security checks. This Sunshine Act notice is being issued because a majority of the Commission may attend the meeting.

The agenda for the meeting will include: (i) Committee organizational matters; and (ii) hearing two industry panels presenting views and information regarding the market events of May 6, 2010.

For further information, please contact the Office of the Secretary at (202) 551-5400.

Dated: August 3, 2010.
Florence E. Harmon,
Deputy Secretary.

[FR Doc. 2010-19526 Filed 8-4-10; 11:15 am]

BILLING CODE 8010-01-P